ADVISORY COUNCIL ON HISTORIC PRESERVATION

Notice of Meeting

AGENCY: Advisory Council on Historic Preservation.

ACTION: Notice of meeting.

SUMMARY: Notice is hereby given that the Advisory Council on Historic Preservation (ACHP) will met on Wednesday, May 18, 2005. The meeting will be held in the Calvert Room, Maryland State House, 1 State Circle, Annapolis, Maryland, beginning at 1:30 p.m.

The ACHP was established by the National Historic Preservation Act of 1966 (16 U.S.C. 470 et seq.) to advise the President and the Congress on matters relating to historic preservation and to comment upon Federal, federally assisted, and federally licensed undertakings having an effect upon properties listed in or eligible for inclusion in the National Register of Historic Places. the ACHP's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a member of an Indian tribe; and eight non-Federal members appointed by the President.

The agenda for the meeting includes the following:

I. Chairman's Welcome

II. Swearing-In Ceremony

III. Preserve America Community Recognition and Chairman's Award Presentation

IV. Report of the Preservation Initiatives Committee

A. Heritage Tourism Initiative

B. Historic Preservation Tax Issue

C. National Heritage Areas Legislation

V. Report of the Federal Agency Programs Committee

A. Review of Federal Agency Section 3 Reports

B. Base Realignment and Closure—Next Round and August 2005 ACHP Business Meeting

C. U.S. Forest Service Program Issues

D. Section 106 Case Update

VI. Report of the Communications, Education, and Outreach Committee

A. Preserve America Presidential Awards for 2006

B. Chairman's Awards Database

C. Implementation of Congressional Communications Strategy

VII. Report of the Native American Advisors

VIII. Report of the Archeology Task Force

A. Discussion of Issues from Tuesday's Tour and Presentations

B. Schedule of Future Actions

IX. Report of the Affordable Housing and Historic Preservation Task Force

X. Preserve America Program Status Report

XI. Chairman's Report

A. ACHP Alumni Foundation

B. Legislative Issues

1. ACHP Reauthorization Legislation

2. ACHP FY 2006 Appropriation

C. Native American Advisors

XII. Executive Director's Report

XIII. New Business

XIV. Adjourn

Note: The meetings of the ACHP are open to the public. If you need special accommodations due to a disability, please contact the Advisory Council on Historic Preservation, 1100 Pennsylvania Avenue, NW., Room 809, Washington, DC 202-606-8503, at least seven (7) days prior to the meeting.

FOR FURTHER INFORMATION CONTACT: Additional information concerning the meeting is available from the Executive Director, Advisory Council on Historic Preservation, 1100 Pennsylvania Avenue, NW., #809, Washington, DC 2004.

Dated: May 11, 2005.
John M. Fowler
Executive Director.

[FR Doc. 05-9770 Filed 5-16-05; 8:45 am]

BILLING CODE 4310-10-M